DEPARTMENT OF ENERGY

Federal Energy Regulatory Commission

[Docket No. RP97-249-002]

Viking Gas Transmission Company; Notice of Negotiated Rates

April 30, 2003.

Take notice that on April 1, 2003, Viking Gas Transmission Company (Viking) tendered for filing as part of its FERC Gas Tariff, First Revised Volume No. 1, the following tariff sheets to become effective June 1, 2002:

Fourth Revised Sheet No. 8

Fourth Revised Sheet No. 9

Original Sheet No. 9A

Original Sheet No. 9B

Viking indicates that these tariff sheets describe two negotiated rate contracts, Contract Numbers 8007 and 8013. Viking states that it is also filing copies of Contract Numbers 8007 and 8013 for Commission review.

Viking states that copies of this filing have been served on Viking's jurisdictional customers and to affected state regulatory commissions.

Any person desiring to be heard or to protest said filing should file a motion to intervene or a protest with the Federal Energy Regulatory Commission, 888 First Street, NE., Washington, DC 20426, in accordance with sections 385.314 or 385.211 of the Commission's rules and regulations. All such motions or protests must be filed on or before the comment date below. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 7, 2003.

Magalie R. Salas,
Secretary.

[FR Doc. 03-11129 Filed 5-5-03; 8:45 am]

BILLING CODE 6717-01-P